DEPARTMENT OF ENERGY

Federal Energy Regulatory Commission

[Project No. 2195-011]

Portland General Electric Company; Notice of Extension of Time for Filing Comments on Settlement Agreement Modification

October 1, 2008.

Take notice that the following hydroelectric application has been filed with the Commission and is available for public inspection:

a. Type of Application: New Major License.

b. Project No.: P-2195-011.

c. Date filed: August 26, 2004.

d. Applicant: Portland General Electric Company.

e. Name of Project: Clackamas River Hydroelectric Project.

f. Location: Clackamas River and Oak Grove Fork in Clackamas County, Oregon.

g. Filed Pursuant to: Federal Power Act 16 U.S.C. 791(a)—825(r).

h. Applicant Contact: Julie A. Kiel, Director of Hydro Licensing, 121 SW Salmon Street, Portland, Oregon 97204.

i. FERC Contact: Nicholas Jayjack, 202-502-6073; Nicholas.Jayjack@ferc.gov.

j. Deadline for filing comments: October 21, 2008. Reply comments due by October 31, 2008.

All documents (original and eight copies) should be filed with: Kimberly D. Bose, Secretary, Federal Energy Regulatory Commission, 888 First Street, NE., Washington, DC 20426.

The Commission's Rules of Practice require all interveners filing documents with the Commission to serve a copy of that document on each person on the official service list for the project. Further, if an intervener files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. Background: On March 30, 2006, Portland General Electric Company (PGE) filed a settlement agreement signed by it and 32 other parties, including federal and state resource agencies, Indian tribes, and non-governmental organizations to address issues associated with the relicensing of the Clackamas River Hydroelectric Project. The settlement agreement includes proposed license articles for the protection and enhancement of water quality, fishery resources, terrestrial resources, recreation resources, land uses, project area aesthetics, and cultural resources.

On July 21, 2008, PGE filed a modification of Proposed License Article 14 to make the settlement agreement consistent with its proposal in a June 28, 2008, application to Oregon Department of Environmental Quality for certification pursuant to section 401 of the Clean Water Act. Specifically, the parties modified Proposed License Article 14 to stipulate that PGE file a plan for achieving certain water temperature reductions below the Faraday development tailrace through either seasonal drawdowns or channelization of Faraday Lake.

Pursuant to 18 CFR 385.602, comments on the settlement agreement modification were required to be filed by August 11, 2008 (i.e., not later than 20 days after the filing of the settlement agreement modification) with reply comments due 10 days later. There were no comments filed.

By this notice and pursuant to 18 CFR 385.602, additional opportunity is provided to submit comments and reply comments concerning the modified provisions of the settlement agreement. The deadline is as specified in item j above.

l. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction at the address in item h above.

You may also register online at http://www.ferc.gov/docs-filing/esubscription.asp to be notified via e-mail of new filings and issuances related to this or other pending projects. For assistance, contact FERC Online Support.

Nathaniel J. Davis, Sr.,
Deputy Secretary.

[FR Doc. E8-23622 Filed 10-6-08; 8:45 am]

BILLING CODE 6717-01-P